FEDERAL COMMUNICATIONS COMMISSION

47 CFR Parts 1 and 69

[WC Docket Nos. 16-143, 05-25, GN Docket No. 13-5 and RM-10593; FCC 17-43]

Sunset Order; Access Charge Reform; Business Data Services

AGENCY: Federal Communications Commission.

ACTION: Final rule; announcement of effective date.

SUMMARY: In this document, the Commission announces that the Office of Management and Budget (OMB) has approved, for a period of three years, an information collection associated with the Commission's Business Data Services Report and Order, FCC 17-43, which reformed the business data services/special access regulations for incumbent and competitive LECs. The Commission's reforms included replacing the application-based pricing flexibility rules with a new framework for determining the circumstances under which business data services will be subject to ex ante pricing regulation. The Commission amended its rules to specify that its pricing flexibility rules no longer apply to business data services. The Commission also limited the circumstances under which price cap LECs must file their business data services contracts as contract-based tariffs. This document is consistent with the Order, which stated that the Commission would publish a document in the Federal Register announcing the effective date of this rule.

DATES: The amendments to §§ 1.776 and 69.701 of the Commission's rules, published at June 2, 2017, 82 FR 25660, are effective November 29, 2017.

FOR FURTHER INFORMATION CONTACT: William Kehoe, Pricing Policy Division, Wireline Competition Bureau, at (202) 418-7122, or email: william.kehoe@fcc.gov.

SUPPLEMENTARY INFORMATION: This document announces that, on November 7, 2017, OMB approved, for a period of three years, the changes in information collection requirements relating to §§ 1.774, 1.776 and 69.701 of the Commission's rules, as contained in the Commission's Business Data Services Report and Order, FCC 17-43, published at 82 FR 25660, June 2, 2017. The OMB Control Number is 3060-0760. The Commission publishes this document as an announcement of the effective date of §§ 1.776 and 69.701 of the Commission's rules. If you have any comments on the burden estimates listed below, or how the Commission can improve the collections and reduce any burdens caused thereby, please contact Nicole Ongele, Federal Communications Commission, Room 1-A620, 445 12th Street SW., Washington, DC 20554. Please include the OMB Control Number, 3060-0760, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on November 7, 2017, for the information collection requirements contained in the modifications to §§ 1.774, 1.776, and 69.701 of the Commission's rules. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0760.

The foregoing notice is required by the Paperwork Reduction Act of 1995, Public Law 104-13, October 1, 1995, and 44 U.S.C. 3507.

The total annual reporting burdens and costs for the respondents are as follows:

OMB Control Number: 3060-0760.

OMB Approval Date: November 7, 2017.

OMB Expiration Date: November 30, 2020.

Title: 272 Sunset Order, WC Docket No. 06-120; Access Charge Reform, CC Docket No. 96-262, First Report and Order; Second Order on Reconsideration and Memorandum Opinion and Order; and Fifth Report and Order; Business Data Services Report and Order, WC Docket No. 16-143 et al.

Form Number: N/A.

Respondents: Business or other for-profit.

Number of Respondents and Responses: 13 respondents; 66 responses.

Estimated Time per Response: 3-80 hours.

Frequency of Response: One-time reporting requirement; on-occasion reporting requirement; third-party disclosure requirement.

Obligation to Respond: Required to obtain or retain benefits. Statutory authority for this information collection is contained in 47 U.S.C. 1, 4(i) through (j), 201 through 205, and 303(r) of the Communications Act of 1934, as amended, 47 U.S.C. 151, 154(i) through (j), 201 through 205, and 303(r).

Total Annual Burden: 1,256 hours.

Total Annual Cost: $61,050.

Privacy Act Impact Assessment: No impact(s).

Nature and Extent of Confidentiality: The information requested is not of a confidential nature. However, respondents may request materials or information submitted to the Commission be withheld from public inspection under 47 CFR 0.459 of the Commission's rules.

Needs and Uses: On April 28, 2017, the Commission released the Business Data Services Order, WC Docket No. 16-143 et al., FCC 17-43, reforming the business data services/special access regulations for incumbent and competitive LECs. The Commission's reforms included replacing the application-based pricing flexibility rules with a new framework under which: (a) Packet-based services, time division multiplexing (TDM) services with bandwidth greater than 45 mbps, and TDM transport services are not subject to ex ante pricing regulation; (b) a new standard is applied to determine the extent to which the Commission regulates price cap LECs' TDM end user channel terminations with bandwidth less than 45 mbps and certain other low bandwidth business data services. Under this standard, a price cap LEC is not subject to ex ante pricing regulation in the provision of these services in counties deemed competitive under the Commission's competitive market test or for which the price cap LEC previously obtained Phase II pricing flexibility; (c) the price cap LEC is subject to ex ante pricing regulation in other counties where it is the incumbent LEC, but in these counties the price cap LEC has downward pricing flexibility (i.e., the equivalent of Phase I pricing flexibility under the prior rules); and (d) the Commission will update the competitive market test results every three years using data already collected in FCC Form 477.

Among other rules changes, the Business Data Services Order repealed § 1.774, which set forth requirements for pricing flexibility applications, and added § 1.776, which limits the circumstances under which price cap LECs must file their business data services contracts as contract-based tariffs. The Commission also amended § 69.701 of its rules to specify that its pricing flexibility rules no longer apply to business data services.

Federal Communications Commission.
Marlene H. Dortch,
Secretary, Office of the Secretary.

[FR Doc. 2017-25674 Filed 11-28-17; 8:45 am]

BILLING CODE 6712-01-P